Executive Order 14265 of April 9, 2025

Modernizing Defense Acquisitions and Spurring Innovation in the Defense Industrial Base

By the authority vested in me as President by the Constitution and the laws of the United States of America, it is hereby ordered:

Section 1. Purpose. As Chief Executive and Commander in Chief, I am committed to ensuring that the United States military possesses the most lethal warfighting capabilities in the world. America's defense industrial base is central to this effort. Similarly, the defense acquisition workforce is a national strategic asset that will be decisive in any conflict, where the factory floor can be just as significant as the battlefield.

Unfortunately, after years of misplaced priorities and poor management, our defense acquisition system does not provide the speed and flexibility our Armed Forces need to have decisive advantages in the future. In order to strengthen our military edge, America must deliver state-of-the?art capabilities at speed and scale through a comprehensive overhaul of this system.

Sec. 2. Policy. It is the policy of the United States Government to accelerate defense procurement and revitalize the defense industrial base to restore peace through strength. To achieve this, the United States will rapidly reform our antiquated defense acquisition processes with an emphasis on speed, flexibility, and execution. We will also modernize the duties and composition of the defense acquisition workforce, as well as incentivize and reward risk-taking and innovation from these personnel.

Sec. 3. Acquisition Process Reform. Within 60 days of the date of this order, the Secretary of Defense shall submit to the President a plan to reform the Department of Defense's acquisition processes that, to the maximum extent possible, incorporates the following:

(a) Utilization of existing authorities to expedite acquisitions throughout the Department of Defense, including a first preference for commercial solutions and a general preference for Other Transactions Authority, application of Rapid Capabilities Office policies, or any other authorities or pathways to promote streamlined acquisitions under the Adaptative Acquisition Framework. Starting upon issuance of this order, and during the formation of the plan, the Secretary of Defense shall prioritize use of these authorities in all pending Department of Defense contracting actions and require their application, where appropriate and consistent with applicable law, for all Department of Defense contracting actions pursued while the plan directed by this section is under consideration.

(b) A detailed process review of each functional support role within the acquisition workforce to eliminate unnecessary tasks, reduce duplicative approvals, and centralize decision-making. These reviews should also include evaluations of program managers, contracting officers, engineering authorities, financial managers, cost estimators, and logisticians.

(c) A detailed process by which the Under Secretary of Defense for Acquisition and Sustainment, Service Acquisition Executives, and Component Acquisition Executives can effectively manage risk for all acquisition programs through a formal steering board known as a Configuration Steering Board.

Sec. 4. Internal Regulations Review. The Secretary of Defense shall oversee the review of and, as appropriate, propose revisions to relevant Department of Defense instructions, implementation guides, manuals, and regulations relating to acquisition to:

(a) Eliminate or revise any unnecessary supplemental regulations or any other internal guidance, such as relevant parts of the Financial Management Regulation and Defense Federal Acquisition Regulation Supplement.

(b) Promote expedited and streamlined acquisitions. Where new supplemental regulations or internal guidance is proposed, the Secretary of Defense shall apply the ten-for-one rule as described in Executive Order 14192 of January 31, 2025 (Unleashing Prosperity Through Deregulation).

Sec. 5. Acquisition Workforce Reform. Within 120 days of the date of this order, the Secretary of Defense, in coordination with the Secretary of the Army, the Secretary of the Navy, the Secretary of the Air Force, and Component Acquisition Executives, shall develop and submit to the President a plan for consideration to reform, right-size, and train the acquisition workforce that includes the following components:

(a) The restructuring of performance evaluation metrics for acquisition workforce members to include the ability to demonstrate and apply a first consideration of commercial solutions, adaptive acquisition pathways through the Adaptive Acquisition Framework, and iterative requirements based on the perspective of the end user.

(b) An analysis of acquisition workforce staff levels required to develop, deliver, and sustain warfighting capabilities.

(c) The establishment of field training teams by the Under Secretary of Defense for Acquisition and Sustainment, led by senior acquisition executives or managers with expertise in innovative acquisition authorities and commercial solutions, and modeled after field training teams authorized by section 832 of Public Law 118-159 (10 U.S.C. 1749). These teams should provide hands-on guidance, deliver templates and case studies of successful approaches for implementing innovative acquisition authorities, and should assist integrated functional program teams in completing acquisition and sustainment tasks.

(d) The development and implementation of policies, procedures, and tools to incentivize acquisition officials to, in good faith, utilize innovative acquisition authorities and take measured and calculated risks.

Sec. 6. Major Defense Acquisition Program Review. (a) Within 90 days of the date of this order, the Secretary of Defense, acting through the Deputy Secretary of Defense, in coordination with the Secretary of the Army, the Secretary of the Navy, the Secretary of the Air Force, the Under Secretary of Defense for Acquisition and Sustainment, and Component Acquisition Executives, shall complete a comprehensive review of all major defense acquisition programs (MDAPs), as defined in section 4201 of title 10, United States Code, to determine if any such programs are inconsistent with the policy objectives set forth in section 2 of this order. As part of the review of all MDAPs:

(i) any program more than 15 percent behind schedule based on the current Acquisition Program Baseline (APB), 15 percent over cost based on the current APB, unable to meet any key performance parameters, or unaligned with the Secretary of Defense's mission priorities, will be considered for potential cancellation. The Secretary of Defense shall submit the potential cancellation list to the Director of the Office of Management and Budget (OMB) for future budget determinations.

(ii) the Secretary of Defense shall provide a listing of all MDAPs contracts, along with performance against original and approved Government cost estimates to the Director of OMB for review within 90 days from the date of this order.

(b) Following this comprehensive review of MDAPs, the Secretary of Defense shall provide the Director of OMB with a plan for reviewing all remaining major systems, as defined in section 3041 of title 10, United States Code, that are not MDAPs.

Sec. 7. Requirements. The Secretary of Defense, acting through the Deputy Secretary of Defense, in coordination with the Secretary of the Army, the Secretary of the Navy, the Secretary of the Air Force, and the Joint Chiefs of Staff, shall complete a comprehensive review of the Joint Capabilities Integration and Development System within 180 days of the date of this order, with the goal of streamlining and accelerating acquisition.

Sec. 8. Definitions. For purposes of this order:

(a) The term “Adaptive Acquisition Framework” means the series of acquisition pathways that enable the workforce to deliver “effective, suitable, survivable, sustainable, and affordable solutions to the end user in a timely manner,” as stated in Department of Defense Instruction 5000.02.

(b) The term “Acquisition Program Baseline” means the formally established cost, schedule, and performance baselines of a program, as described in Department of Defense Instruction 5000.85.

(c) The term “commercial solutions” means any of the methods for procurement of a commercial product or service described in part 12 of the Federal Acquisition Regulation, subpart 212.2 of the Defense Federal Acquisition Regulation Supplement, or subpart 212.70 of the Defense Federal Acquisition Regulation Supplement; or other industry solutions funded by private investment that meet military needs.

(d) The term “Configuration Steering Board” means an annual review of potential requirements changes, critical intelligence parameter changes, and any significant technical configuration changes as described in Department of Defense Instruction 5000.85.

(e) The term “innovative acquisition authorities” means Other Transactions Authority, commercial solutions, application of Rapid Capabilities Office policies, or any other authorities or pathways to promote streamlined acquisitions under the Adaptive Acquisition Framework.

(f) The term “Joint Capabilities Integration and Development System” means the formally established Department of Defense process used to identify, assess, and prioritize joint military capability requirements across the Department of Defense.

(g) The term “Other Transactions Authority” means the ability of the United States Government to enter into contracts other than standard contracts, grants, or cooperative agreements.

(h) The term “Rapid Capabilities Office” means the Army Rapid Capabilities and Critical Technologies Office, Naval Air Warfare Rapid Capabilities Office, Department of the Air Force Rapid Capabilities Office, or Space Force Rapid Capabilities Office.

Sec. 9. General Provisions. (a) Nothing in this order shall be construed to impair or otherwise affect:

(i) the authority granted by law to an executive department or agency, or the head thereof; or

(ii) the functions of the Director of OMB relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 9, 2025.

[FR Doc. 2025-06461

Filed 4-14-25; 8:45 am]

Billing code 3395-F4-P